NUCLEAR REGULATORY COMMISSION

Notice of Availability of a Regulatory Issue Summary for Deferring Active Regulation of Ground-Water Protection at In Situ Leach Uranium Extraction Facilities

AGENCY: Nuclear Regulatory Commission.

ACTION: Notice of availability for public comment.

SUMMARY: The U.S. Nuclear Regulatory Commission (NRC) has developed Regulatory Issue Summary (RIS) 2004-02, “Deferral of Active Regulation of Ground-Water Protection at In Situ Leach (ISL) Uranium Extraction Facilities” dated February 23, 2004. The NRC regulation of ground water at ISL facilities often duplicates the ground-water protection programs required by the Safe Drinking Water Act, as administered by the U.S. Environmental Protection Agency (EPA) or EPA-authorized States. The NRC is proposing to end duplication of ground-water protection programs at ISL facilities by deferring active ground-water regulation to EPA-authorized States. The RIS summarizes the process that the NRC plans to use for insuring that a State's ground-water protection program provides adequate protection of public health and safety, and the environment, equivalent to the NRC program. Interested parties may comment on the proposed approach. The comment period will be open for 30 days from the publication of this notice.

ADDRESSES: Electronic copies of this document are available for public inspection in the NRC Public Document Room or from the Publicly Available Records (PARS) component of NRC's document system (ADAMS). ADAMS is accessible from the NRC Web site at http://www.nrc.gov/reading-rm/adams.html (the Public Electronic Reading Room). RIS 2004-02 is under Adams Accession Number ML040550197. The document is also available for inspection or copying for a fee at the NRC's Public Document Room, 11555 Rockville Pike, Room O1-F21, Rockville, Maryland, 20852. This guidance document is not copyrighted, and Commission approval is not required to reproduce it.

FOR FURTHER INFORMATION CONTACT: John Lusher, Office of Nuclear Material Safety and Safeguards, Division of Fuel Cycle Safety and Safeguards, Mail Stop T-8 A33, U.S. Nuclear Regulatory Commission, Washington, DC 20555-0001, telephone (301) 415-7694, or by e-mail at jhl@nrc.gov.

Dated in Rockville, Maryland this 5th day of March, 2004.
For the Nuclear Regulatory Commission.
Robert A. Nelson,
Chief, Uranium Processing Section, Fuel Cycle Facilities Branch, Division of Fuel Cycle Safety and Safeguards, Office of Nuclear Material Safety and Safeguards.

[FR Doc. 04-5597 Filed 3-11-04; 8:45 am]

BILLING CODE 7590-01-P